DEPARTMENT OF ENERGY

Office of Energy Efficiency and Renewable Energy

[Case No. CAC-012]

RIN 1904-AB12

Energy Conservation Program for Consumer Products: Publication of the Extension of Interim Waiver of Mitsubishi Electric & Electronics USA, Inc., from the U.S. Department of Energy Residential and Commercial Air Conditioner and Heat Pump Test Procedures

AGENCY: Office of Energy Efficiency and Renewable Energy, Department of Energy.

ACTION: Notice of extension of interim waiver.

SUMMARY: On March 24, 2006, the U.S. Department of Energy (DOE) published in the Federal Register a Petition for Waiver and notice granting an Application for Interim Waiver to Mitsubishi Electric and Electronics USA, Inc., (MEUS) from energy efficiency test procedure requirements that are applicable to residential and commercial air conditioners and heat pumps. (71 FR 14858) The date of issuance of the Interim Waiver was March 15, 2006, and it terminated 180 days after issuance on September 11, 2006. In today's action, DOE is extending the Interim Waiver for 180 days, or until March 10, 2007.

FOR FURTHER INFORMATION CONTACT: Michael Raymond at (202) 586-9611, e-mail; michael.raymond@ee.doe.gov, or Francine Pinto, Esq., (202) 586-9507, e-mail: francine.pinto@hq.doe.gov.

SUPPLEMENTARY INFORMATION: On March 15, 2006, DOE granted to MEUS an Interim Waiver from the energy efficiency test procedure requirements in appendix M to subpart B of Title 10, Code of Federal Regulations Parts 430 and 431 (10 CFR Parts 430 and 431) respectively, that are applicable to MEUS's CITY MULTI® Variable Refrigerant Flow Zoning (VRFZ) package air conditioners and heat pump units that operate using R410A refrigerant, and requested comments. (71 FR 14858) Pursuant to 10 CFR 430.27(h), “an interim waiver will terminate 180 days after issuance or upon the determination on the Petition for Waiver, whichever occurs first. An interim waiver may be extended by DOE for 180 days. Notice of such extension and/or any modification of the terms or duration of the interim waiver shall be published in the Federal Register, and shall be based on relevant information contained in the record and any comments received subsequent to issuance of the interim waiver.”

The 180-day period for MEUS's Interim Waiver ended on September 11, 2006. All but one of the comments received were favorable to MEUS's Petition for Waiver. As such, DOE intends to publish a decision and order concerning the energy efficiency test procedure requirements for residential and commercial air conditioners and heat pumps in 10 CFR Parts 430 and 431, which are applicable to MEUS's CITY MULTI® VRFZ package air conditioners and heat pumps that operate using R410A refrigerant. Moreover, in view of the comments received and to provide sufficient time to further examine MEUS's Petition for Waiver, DOE has determined that it is appropriate to grant an extension of the Interim Waiver for an additional 180 days, until March 10, 2007, or until the determination on the Petition for Waiver, whichever occurs first.

Issued in Washington, DC, on November 16, 2006.
Alexander A. Karsner,
Assistant Secretary, Energy Efficiency and Renewable Energy.

[FR Doc. E6-19985 Filed 11-24-06; 8:45 am]

BILLING CODE 6450-01-P